INTERNATIONAL TRADE COMMISSION

[Investigation No. 332-552]

Overview of Cuban Imports of Goods and Services and Effects of U.S. Restrictions

AGENCY: United States International Trade Commission.

ACTION: Expansion of scope of investigation; extension of deadline for filing written submissions.

SUMMARY: Following receipt of a letter on August 19, 2015, from the Committee on Finance of the United States Senate (Committee), the Commission has expanded the scope of investigation No. 332-552, Overview of Cuban Imports of Goods and Services and Effects of U.S. Restrictions, and extended to October 23, 2015, the deadline for filing written submissions to the Commission.

DATES: October 23, 2015: Deadline for filing all written submissions.

March 17, 2016: Transmittal of Commission report to the Senate Committee on Finance.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Heidi Colby-Oizumi (202-205-3391; heidi.colby@usitc.gov) or Deputy Project Leader Alissa Tafti (202-205-3244; alissa.tafti@usitc.gov). For information on legal aspects, contact William Gearhart of the Office of the General Counsel (202-205-3091; william.gearhart@usitc.gov). The media should contact Margaret O'Laughlin, Office of External Relations (202-205-1819; margaret.olaughlin@usitc.gov). General information concerning the Commission may also be obtained by accessing its Internet address (http://www.usitc.gov).Hearing impaired individuals may obtain information on this matter by contacting the Commission's TDD terminal at 202-205-1810. Persons with mobility impairments who will need special assistance in gaining access to the Commission should contact the Office of the Secretary at 202-205-2000.

Background: The Commission instituted the investigation in response to a letter from the Committee on Finance dated December 17, 2014. In that letter the Committee asked that the Commission institute an investigation and provide a report that includes, to the extent possible, the following: (1) An overview of Cuba's imports of goods and services from 2005 to the present, including identification of major supplying countries, products, and market segments; (2) a description of how U.S. restrictions on trade, including those relating to export financing terms and travel to Cuba by U.S. citizens, affect Cuban imports of U.S. goods and services; and (3) for sectors where the impact is likely to be significant, a qualitative and, to the extent possible, quantitative estimate of U.S. exports of goods and services to Cuba in the event that statutory, regulatory, or other trade restrictions on U.S. exports of goods and services as well as travel to Cuba by U.S. citizens are lifted. The Committee also asked that the report include, to the extent possible, state-specific analysis of the impacts described above, and that the report be transmitted by September 15, 2015. In response, the Commission instituted the current investigation and published a notice of the investigation in the Federal Register on February 4, 2015 (80 FR 6137). The Commission also announced that it would hold a hearing in the course of the investigation, and the hearing was subsequently rescheduled to and held on June 2, 2015, with post-hearing briefs and statements due on June 9, 2015, and all other written submissions due on June 19, 2015 (see Commission notice published in the Federal Register on March 4, 2015, 80 FR 11689).

In a letter dated and received on August 19, 2015, the Committee asked that the Commission expand the scope of its report to include:

(1) A qualitative analysis of existing Cuban non-tariff measures, Cuban institutional and infrastructural factors, and other Cuban barriers that inhibit or affect the ability of U.S. and non-U.S. firms to conduct business in and with Cuba, with such measures, factors, and barriers to include, to the extent feasible, but not be limited to, the following topics: restrictions on trade and investment; property rights and ownership; customs duties and procedures; sanitary and phytosanitary measures; state trading; protection of intellectual property rights; and infrastructure as it affects telecommunications, port facilities, and the storage, transport, and distribution of goods;

(2) a qualitative analysis of any effects that such measures, factors, and barriers would have on U.S. exports of goods and services to Cuba in the event of changes to statutory, regulatory, or other trade restrictions on U.S. exports of goods and services to Cuba; and

(3) to the extent feasible, a quantitative analysis of the aggregate effects of Cuban tariff and non-tariff measures on the ability of U.S. and non-U.S. firms to conduct business in and with Cuba.

In its letter of August 19, 2015, the Committee asked that the Commission transmit its completed report by March 17, 2016.

Written Submissions: The Commission does not plan to hold a further public hearing in this investigation. However, interested parties are invited to file written submissions concerning this investigation. All written submissions should be addressed to the Secretary, and all such submissions should be received no later than 5:15 p.m., October 23, 2015. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Committee has asked that the Commission's report not contain any confidential business information. Any confidential business information received by the Commission in this investigation and used in preparing this report will not be published in a manner that would reveal the operations of the firm supplying the information.

Summaries of Written Submissions: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Issued: September 3, 2015.
Lisa R. Barton,
Secretary to the Commission.

[FR Doc. 2015-22697 Filed 9-9-15; 8:45 am]

BILLING CODE 7020-02-P